NATIONAL SCIENCE FOUNDATION

Advisory Committee for Mathematical and Physical Sciences; Notice of Meeting

In accordance with the Federal Advisory Committee Act (Pub. L. 92-463, as amended), the National Science Foundation (NSF) announces the following meeting:

Name: Advisory Committee for Mathematical and Physical Sciences (#66) (Virtual).

Date/Time: January 25, 2017; 1:00 p.m. to 2:00 p.m. EST.

Place: National Science Foundation 4201 Wilson Blvd., Arlington, VA 22230 (Virtual).

Information to join this virtual meeting to be posted on the committee's Web site at https://www.nsf.gov/mps/advisory.jsp .

Type of Meeting: Open.

Contact Person: John Gillaspy, National Science Foundation, 4201 Wilson Boulevard, Suite 1005, Arlington, Virginia 22230; Telephone: 703/292-8300.

Purpose of Meeting: To provide advice, recommendations and counsel on major goals and policies pertaining to mathematical and physical sciences programs and activities.

Agenda

January 25, 2017; 1:00 p.m.-2:00 p.m. EST

1:00 p.m.-1:05 p.m. Meeting opening, FACA briefing

1:05 p.m.-2:00 p.m. Division of Mathematical Sciences (DMS) Committee of Visitor (COV)'s report

2:00 p.m. Adjourn

Dated: January 10, 2017.
Crystal Robinson,
Committee Management Officer.

[FR Doc. 2017-00633 Filed 1-12-17; 8:45 am]

BILLING CODE 7555-01-P